DEPARTMENT OF LABOR

Employment and Training Administration

[TA-W-58,215]

Bespak, Inc., Tenax Corporation, Castleton Group, Apex, NC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on December 2, 2005, applicable to workers of Bespak, Inc., Apex, North Carolina. The notice was published in the Federal Register on December 21, 2005 (70 FR 75841). The determination was amended on January 20, 2006, to include workers of the subject firm whose wages were reported under, Tenax Corporation, a member of the Bespak Group. The notice was published in the Federal Register on January 31, 2006 (71 FR 5071).

At the request of a company official, the Department again reviewed the certification for workers of the subject firm. The workers produce drug delivery devices (inhalers, bags, pumps, I.V. lines, and syringes).

The company official provided information to the Department confirming that some of the workers wages at the subject firm are reported under the Unemployment Insurance tax account for Castleton Group.

Based on this new information, the Department is again amending the certification to include workers of Bespak, Inc., Tenax Corporation, Apex, North Carolina, whose wages are reported to Castleton Group.

The amended notice applicable to TA-W-58,215 is hereby issued as follows:

All workers of Bespak, Inc., Tenax Corporation, Castleton Group, Apex, North, Carolina, who became totally or partially separated from employment on or after October 25, 2004, through December 2, 2007, are eligible to apply for adjustment assistance under Section 223 of the Trade Act of 1974, and are also eligible to apply for alternative trade adjustment assistance under Section 246 of the Trade Act of 1974.

Signed at Washington, DC, this 20th day of April, 2006.
Linda G. Poole,
Certifying Officer, Division of Trade Adjustment Assistance.

[FR Doc. E6-6817 Filed 5-4-06; 8:45 am]

BILLING CODE 4510-30-P